DEPARTMENT OF LABOR

Employment and Training Administration

[TA-W-59,941 and TA-W-59,941A]

Caraustar Mill Group, Inc., Rittman Paperboard Division, Rittman, OH, Including Employees of Caraustar Mill Group, Inc., Rittman Paperboard Division, Rittman, OH, Located in Sprague, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on September 20, 2006, applicable to workers of Caraustar Mill Group, Inc., Rittman Paperboard Division, Rittman, Ohio. The notice will soon be published in the Federal Register.

At the request of a company official, the Department reviewed the certification for workers of the subject firm. New information shows that worker separations have occurred involving employees of the Rittman, Ohio facility of Caraustar Mill Group, Inc., Rittman Paperboard Division located in Sprague, Connecticut.

Mr. Tom Loeb and Mr. Bill Clark provided technical service and sales function services for the production of coated recycled boxboard produced by the subject firm.

Based on these findings, the Department is amending this certification to include employees of the Rittman, Ohio facility of Caraustar Mill Group, Inc., Rittman Paperboard Division located in Sprague, Connecticut.

The intent of the Department's certification is to include all workers of Caraustar Mill Group, Inc., Rittman Paperboard Division, Rittman, Ohio who were adversely affected by increased company imports.

The amended notice applicable to TA-W-59,941 is hereby issued as follows:

”All workers of Caraustar Mill Group, Inc., Rittman Paperboard Division, Rittman, Ohio (TA-W-59,941), and including employees located in Sprague, Connecticut (TA-W-59,941A), who became totally or partially separated from employment on or after August 17, 2005, through September 20, 2008, are eligible to apply for adjustment assistance under Section 223 of the Trade Act of 1974 and are also eligible to apply for alternative trade adjustment assistance under Section 246 of the Trade Act of 1974.”

Signed at Washington, DC this 18th day of December, 2006.
Linda G. Poole,
Certifying Officer, Division of Trade Adjustment Assistance.

[FR Doc. E6-22130 Filed 12-26-06; 8:45 am]

BILLING CODE 4510-30-P